ENVIRONMENTAL PROTECTION AGENCY

40 CFR Parts 52 and 81

[LA-55-1-7485a; FRL-7121-4]

Approval and Promulgation of Implementation Plans and Designation of Areas for Air Quality Planning Purposes; State of Louisiana; Redesignation of Lafourche Parish Ozone Nonattainment Area to Attainment for Ozone

AGENCY: Environmental Protection Agency (EPA).

ACTION: Direct final rule.

SUMMARY: EPA is taking direct final action on redesignation of Lafourche Parish from nonattainment to attainment for the 1-hour ozone National Ambient Air Quality Standard (NAAQS). This determination is based on three years of complete, quality-assured, ambient air monitoring data for the 1997 to 1999 ozone seasons that demonstrate that the ozone NAAQS has been attained in the area. On August 9, 2000 the State of Louisiana submitted a request to redesignate the ozone nonattainment area of Lafourche Parish to attainment. Under the Clean Air Act (CAA), nonattainment areas may be redesignated to attainment if sufficient data are available to warrant the redesignation and the area meets the other CAA redesignation requirements. In this action, EPA will, unless adverse or critical comment is received, approve Louisiana's request for designation of Lafourche Parish because the request meets the requirements of the CAA.

DATES: This direct final rule is effective on February 25, 2002, unless EPA receives adverse comment by January 25, 2002. If EPA receives such comment, EPA will publish a timely withdrawal in the Federal Register informing the public that this rule will not take effect.

ADDRESSES: Written comments should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Dallas, Texas 75202-2733.

Louisiana Department of Environmental Quality, Air Quality Division, 7290 Bluebonnet Boulevard, Baton Rouge, Louisiana 70810.

FOR FURTHER INFORMATION CONTACT: Thomas Diggs at (214) 665-7214.

SUPPLEMENTARY INFORMATION: Throughout this document wherever “we,” “us,” or “our” are used, we mean the EPA.

Table of Contents

I. What action is EPA taking?

II. What is the background for this action?

III. Why are we taking this action?

IV. What evaluation criteria was used?

V. What are the effects of this action?

VI. Why is this a “Final Action”?

VII. What administrative requirements apply for this action?

I. What Action Is EPA Taking?

We have determined that the Lafourche Parish ozone nonattainment area has attained the NAAQS for ozone. EPA has evaluated the State's redesignation request for consistency with the CAA, EPA regulations and policy. EPA believes that the redesignation request and monitoring data demonstrate that this area has attained the ozone standard. In addition, EPA has determined that the redesignation request meets the requirements and policy set forth in the General Preamble and policy memorandum discussed in this document for area designations. EPA is today approving Louisiana's redesignation request for Lafourche Parish.

II. What Is the Background for This Action?

The CAA as amended in 1977 required areas that were designated nonattainment based on failure to meet the ozone national ambient air quality standard (NAAQS) to develop State Implementation Plans (SIPs) with sufficient control measures to expeditiously attain and maintain the standard. Lafourche Parish was designated under section 107 of the 1977 CAA as nonattainment with respect to the ozone NAAQS on September 11, 1978 (40 CFR 81.319). In accordance with section 110 of the 1977 CAA, the State of Louisiana submitted an ozone SIP as required by part D on December 10, 1979. EPA fully approved this ozone SIP on October 29, 1981 (46 FR 53412).

On November 15, 1990, the CAA Amendments of 1990 were enacted, 42 U.S.C. 7401-7671q. The ozone nonattainment designation for Lafourche Parish continued by operation of law according to section 107(d)(1)(C)(i) of the CAA, as amended in 1990 (56 FR 56694). Since the State had not yet collected the required three years of ambient air quality data in Lafourche Parish necessary to petition for redesignation to attainment, the area was designated as an ozone nonattainment area and classified as an incomplete data area.

On November 18, 1994, the Louisiana Department of Environmental Quality (LDEQ) requested redesignation of Lafourche Parish to attainment of the NAAQS for ozone. The request was accompanied by ambient air monitoring data that showed no violations of the NAAQS standard of 0.12 parts per million (ppm) for a period of three years and a maintenance SIP for ozone. EPA approved the request for redesignation to attainment and maintenance SIP on August 18, 1995 (60 FR 43020), by issuing a direct final rule. However, before the redesignation was final, an ozone NAAQS violation was recorded at a Lafourche Parish ozone monitoring station. On December 5, 1997, EPA corrected the designation for Lafourche Parish to nonattainment for ozone (62 FR 64284) but left the maintenance SIP approved August 18, 1995, in place.

On August 9, 2000, LDEQ again requested redesignation of the ozone attainment status for Lafourche Parish, by submitting to EPA data for the period of January 1, 1997 through December 31, 1999, indicating the NAAQS standard for ozone had been achieved. EPA has also evaluated the ozone data for the years 2000 and 2001. No violations or the 0.12 ppm ozone standard occured in these additional years. The data satisfies the CAA requirements of no more than one exceedance per annual monitoring period. There have been no monitored ozone exceedances for Lafourche Parish since 1996. Under the CAA, nonattainment areas may be redesignated to attainment if sufficient data are available to warrant the redesignation and the area meets the other CAA redesignation requirements.

III. Why Are We Taking This Action?

We are making a determination that the area has attained the 1-hour ozone standard and has continued to be in attainment. EPA bases this determination upon three years of complete, quality-assured ambient air monitoring data for the 1997-1999 ozone seasons that demonstrate that the ozone NAAQS has been attained in the Lafourche Parish area. EPA also determined that the area has continued to attain the standard, based on the most recent three years of data.

The 1990 Amendments revised section 107(d)(3)(E) to provide six specific requirements that an area must meet in order to be redesignated from nonattainment to attainment: (1) The area must have attained the applicable NAAQS; (2) the area must meet all applicable requirements under section 110, (3)the area must meet all applicable requirements under part D of the CAA; (4) the area must have a fully approved SIP under section 110(k) of the CAA; (5) the air quality improvement must be permanent and enforceable; and, (6) the area must have a fully approved maintenance plan pursuant to section 175A of the CAA. Section 107(d)(3)(D) allows a Governor to initiate the redesignation process for an area to apply for attainment status.

IV. What Evaluation Criteria Was Used?

The redesignation request meets the criteria as follows:

A. Attainment of the NAAQS for Ozone

Attainment of the ozone NAAQS is determined based on the expected number of exceedances in a calendar year. The method for determining attainment of the ozone NAAQS is contained in 40 CFR 50.9, and appendix H to that section. The simplest method by which expected exceedances are calculated is by averaging actual exceedances at each monitoring site over a three year period. An area is in attainment of the standard if this average results in expected exceedances for each monitoring site of 1.0 or less per calendar year. When a valid daily maximum hourly average value is not available for each required monitoring day during the year, the missing days must be accounted for when estimating exceedances for the year. Appendix H provides the formula used to calculate exceedances for each year.

The State of Louisiana's request is based on an analysis of quality-assured ozone air quality data which is relevant to the redesignation request. The data come from the State and Local Air Monitoring Station network. The requests are based on ambient air ozone monitoring data collected for 3 consecutive years from January 1, 1997, through December 31, 1999. The data clearly show an exceedance rate of less than one for all these areas.

In addition to the demonstration discussed above, EPA required completion of air network monitoring requirements set forth in 40 CFR Part 58. This included a quality assurance plan revision and a monitoring network review to determine the adequacy of the ozone monitoring network. The LDEQ fulfilled these requirements to complete documentation for the air quality demonstration. The LDEQ has also committed to continue monitoring in these areas in accordance with 40 CFR part 58.

In summary, EPA believes that the data submitted by the LDEQ provides an adequate demonstration that Lafourche Parish attained the ozone NAAQS. Moreover, the monitoring data continue to show attainment to date. If the monitoring data record a violation of the NAAQS before the direct final action is effective, the direct final approval of the redesignation will be withdrawn and a proposed disapproval substituted for the direct final approval. Please see the TSD for a detailed discussion of the monitoring data.

B. Section 110 Requirements

For purposes of redesignation, to meet the requirement that the SIP contain all applicable requirements under the CAA, EPA has reviewed the SIP to ensure that it contains all measures that were due under the CAA prior to or at the time the State submitted its redesignation request, as set forth in EPA policy. EPA interprets section 107(d)(3)(E)(v) of the CAA to mean that, for a redesignation request to be approved, the State must have met all requirements that applied to the subject area prior to or at the same time as the submission of a complete redesignation request. In this case, the date of submission of a complete redesignation request is August 9, 2000. Requirements of the CAA that come due subsequently continue to be applicable to the area at later dates (see section 175A(c)) and, if redesignation of any of the areas is disapproved, the State remains obligated to fulfill those requirements. These requirements are discussed in the following EPA documents: “Procedures for Processing Requests to Redesignate Areas to Attainment,” John Calcagni, Director, Air Quality Management Division, September 4, 1992; “State Implementation Plan (SIP) Actions Submitted in Response to Clean Air Act (CAA) Deadlines,” John Calcagni, Director, Air Quality Management Division, October 28, 1992; and “State Implementation Plan (SIP) Requirements for Areas Submitting Requests for Redesignation to Attainment of the Ozone and Carbon Monoxide (CO) National Ambient Air Quality Standards (NAAQS) on or after November 15, 1992,” Michael H. Shapiro, Acting Assistant Administrator, September 17, 1993. These documents are available at the address above.

EPA has analyzed the Louisiana SIP and determined that it is consistent with the requirements of amended section 110(a)(2). The SIP contains enforceable emission limitations; requires monitoring, compiling, and analyzing ambient air quality data; requires preconstruction review of new major stationary sources and major modifications to existing ones; provides for adequate funding, staff, and associated resources necessary to implement its requirements; and requires stationary source emissions monitoring and reporting.

C. Part D Requirements

Before Lafourche Parish can be redesignated to attainment, the Louisiana SIP must have fulfilled the applicable requirements of part D of the CAA. Under part D, an area's classification indicates the requirements to which it will be subject. Subpart 1 of part D sets forth the basic nonattainment requirements applicable to all nonattainment areas, classified as well as nonclassifiable. Subpart 2 of part D establishes additional requirements for nonattainment areas classified under table 1 of section 181(a)(1).

Section 176(c) of the CAA requires States to revise their SIPs to establish criteria and procedures to ensure that Federal actions, before they are taken, conform to the air quality planning goals in the applicable State SIP. The requirement to determine conformity applies to transportation plans, programs and projects developed, funded, or approved under title 23 U.S.C. or the Federal Transit Act (“transportation conformity”), as well as to all other Federal actions (“general conformity”).

Section 176 further provides that the conformity revisions to be submitted by the States must be consistent with Federal conformity regulations that the CAA required EPA to promulgate. The EPA promulgated final transportation conformity regulations on November 24, 1993 (58 FR 62118) and general conformity regulations on November 30, 1993 (58 FR 63214). These conformity rules require that States adopt both transportation and general conformity provisions in the SIP for areas designated nonattainment, or subject to a maintenance plan approved under CAA section 175A.

Pursuant to 40 CFR 51.390 (transportation conformity) and 40 CFR 51.851 (general conformity), the State of Louisiana was required to submit a SIP revision containing transportation conformity criteria and procedures consistent with those established in the Federal rule by November 25, 1994. Similarly, Louisiana was required to submit a SIP revision containing general conformity criteria and procedures consistent with those established in the Federal rule by December 1, 1994. Louisiana submitted both its transportation and general conformity rules to EPA on November 10, 1994. These were approved on December 29, 1999 (64FR72934) and March 9, 1998 (63FR11372) respectively.

The EPA published additional guidance on maintenance plans and their applicability to conformity issues in a memorandum entitled “Limited Maintenance Plan Option for Nonclassifiable Ozone Nonattainment Areas,” (hereinafter “limited maintenance plan memo”) from Sally L. Shaver, Director, Air Quality Strategies & Standards Division, on November 16, 1994. This limited maintenance plan memo discusses maintenance requirements for certain areas petitioning for redesignation to attainment. Nonclassifiable ozone nonattainment areas with design values less than 85% of the exceedance level of the ozone standard are no longer required to project emissions over the maintenance period. Lafourche Parish has a design value less than 85% of the exceedance value of the ozone standard.

The Federal transportation conformity rule (58 FR 62188) and the Federal general conformity rule (58 FR 63214) apply to areas operating under maintenance plans. Under either rule, one means by which a maintenance area can demonstrate conformity for Federal projects is to indicate that expected emissions from planned actions are consistent with the emissions budget for the area. Based on guidance discussed in the limited maintenance plan memo, emissions inventories in areas that qualify for the limited maintenance plan approach are not required to be projected over the life of the maintenance plan. EPA feels it is unreasonable to expect that such an area as the Lafourch Parish will experience so much growth in that period that a violation of the NAAQS would occur. Emissions budgets in limited maintenance plan areas would be treated as essentially not constraining emissions growth, and would not need to be capped for the maintenance period. In these cases, Federal projects subject to conformity determinations could be considered to satisfy the “budget test” of the Federal conformity rules.

D. Fully Approved SIP

The State of Louisiana has a fully approved SIP for the Lafourche Parish.

E. Permanent and Enforceable Measures

Under the CAA, EPA approved Louisiana's SIP control strategy for the Lafourche Parish, satisfied that the rules and the emission reductions achieved as a result of those rules were enforceable. Several Federal and Statewide rules are in place which have significantly improved the ambient air quality in these areas. Existing Federal programs, such as the Federal Motor Vehicle Control Program and the Reid Vapor Pressure (RVP) limit of 7.8 pounds per square inch for gasoline, will not be lifted upon redesignation. These programs will counteract emissions growth as the areas experience economic growth over the life of their maintenance plans.

The State adopted VOC reduction rules such as oil/water separation; degreasing and solvent clean-up processes; surface coating rules for large appliances, furniture, coils, paper, fabric, vinyl, cans, miscellaneous metal parts and products, and factory surface coating of flat wood paneling; solvent-using rules for graphic arts; and miscellaneous industrial source rules such as for cutback asphalt. The applicable reasonably available control technology (RACT) rules will also remain in place in Lafourche Parish. In addition, the State permits program, the PSD permits program, and the Operating Permits program will help counteract emissions growth.

The EPA finds that the combination of existing EPA-approved SIP and Federal measures ensure the permanence and enforceability of reductions in ambient ozone levels that have allowed the area to attain the NAAQS.

F. Fully Approved Maintenance Plan Under Section 175A

EPA has approved the State's minimal maintenance plan for the Lafourche Parish (see 60 FR 43020, August 18, 1995). Thus, the Parish has a fully approved maintenance plan in accordance with section 175A of the CAA, which sets forth the elements of a maintenance plan for areas seeking redesignation from nonattainment to attainment. The plan must demonstrate continued attainment of the applicable NAAQS for at least ten years after the Administrator approves a redesignation to attainment. Eight years after the redesignation, the State must submit a revised maintenance plan which demonstrates that attainment will continue to be maintained for the ten years following the initial ten-year period. To provide for the possibility of future NAAQS violations, the maintenance plan contains contingency measures, with a schedule for implementation, adequate to assure prompt correction of any air quality problems.

V. What Are the Effects of This Action?

This action determines that Lafourche Parish has attained the 1-hour ozone standard. This redesignation changes the official designation for Lafourche Parish from nonattainment to attainment for the 1-hour ozone standard. It also retains the plan for maintaining the 1-hour standard for 10 years. These plans include contingency measures to correct any future violations of the 1-hour ozone standard.

VI. Why Is This a “Final Action'?

The EPA has evaluated the State of Louisiana's redesignation request for Lafourche Parish for consistency with the CAA, EPA regulations and policy. The EPA believes that the redesignation request and monitoring data demonstrate that this area has attained the ozone standard.

The EPA is taking direct final action on redesignation of Lafourche Parish from nonattainment to attainment for the 1-hour ozone National Ambient Air Quality Standard (NAAQS). EPA is publishing this rule without prior proposal because we view this as a noncontroversial amendment and anticipate no adverse comments. This action will be effective February 25, 2002. If EPA receives adverse comments, we will publish a timely withdrawal in the Federal Register informing the public that the rule will not take effect. We will then address all adverse public comments in a subsequent final rule based on the proposed rule. We will not institute a second comment period on this action. Any parties interested in commenting must do so at this time.

VII. What Administrative Requirements Apply for This Action?

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 25, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Hydrocarbons, Intergovernmental regulations, Reporting and recordkeeping, Ozone, Volatile organic compounds.

40 CFR Part 81

Environmental protection, Air pollution control, National parks, Wilderness areas.

Dated: December 10, 2001.
Lawrence E. Starfield,
Acting Regional Administrator, Region 6.

Parts 52 and 81, title 40 of the Code of Federal Regulations are amended as follows:

PART 52—[AMENDED]

1. The authority citation for part 52 continues to read as follows:

Authority: 42 U.S.C. 7401 et seq.

Subpart T—Louisiana

2. Section 52.975 is amended by revising paragraph (f) to read as follows:

§ 52.975 Redesignations and maintenance plans; ozone.

* * * * *

(f) Approval—The Louisiana Department of Environmental Quality (LDEQ) submitted minimal maintenance plans for Lafourche Parish on November 18, 1994. The LDEQ submitted a redesignation request on August 9, 2000. The maintenance plans meet the redesignation requirements in section 107(d)(3)(E) of the Act as amended in 1990. The redesignation meets the Federal requirements of section 182(a)(1) of the Clean Air Act as a revision to the Louisiana ozone State Implementation Plan for Lafourche Parish.

PART 81—[AMENDED]

1. The authority citation for part 81 continues to read as follows:

Authority: 42 U.S.C. 7401 et seq.

2. In § 81.319, the table entitled “Louisiana—Ozone (1-Hour Standard)” is amended by revising the entry for Lafourche Parish to read as follows:

§ 81.319 Louisiana.

* * * * *

Louisiana—Ozone (1-Hour Standard)
Designated area | Designation: Date ¹ | Designation: Type | Classification: Date ¹ | Classification: Type
* * * * * * *
Lafourche Parish | 2/25/02 | Attainment
* * * * * * *
¹ This date is October 18, 2000, unless otherwise noted.

[FR Doc. 01-31483 Filed 12-21-01; 8:45 am]

BILLING CODE 6560-50-P